DEPARTMENT OF COMMERCE

International Trade Administration

[A-570-010, A-583-853, C-570-011]

Crystalline Silicon Photovoltaic Products From the People's Republic of China and Taiwan: Continuation of Antidumping and Countervailing Duty Orders on China and the Antidumping Duty Order on Taiwan

AGENCY: Enforcement and Compliance, International Trade Administration, Department of Commerce.

SUMMARY: As a result of determinations by the Department of Commerce (Commerce) and the International Trade Commission (ITC) that revocation of the antidumping duty (AD) and countervailing duty (CVD) orders on crystalline silicon photovoltaic products from the People's Republic of China (China) and revocation of the AD order on crystalline silicon photovoltaic products from Taiwan would likely lead to a continuation or recurrence of dumping and countervailable subsidies, as applicable, and material injury to an industry in the United States within a reasonably foreseeable time, Commerce is publishing a notice of continuation of these AD and CVD orders.

DATES: Applicable September 11, 2020.

FOR FURTHER INFORMATION CONTACT: Abdul Alnoor or Eva Kim, AD/CVD Operations, Office IV, Enforcement and Compliance, International Trade Administration, U.S. Department of Commerce, 1401 Constitution Avenue NW, Washington, DC 20230; telephone: (202) 482-4554 or (202) 482-8283, respectively.

SUPPLEMENTARY INFORMATION:

Background

On February 18, 2015, Commerce published in the Federal Register the AD and CVD orders on crystalline silicon photovoltaic products from China and the AD order on crystalline silicon photovoltaic products from Taiwan.¹ On January 2, 2020, the ITC instituted and Commerce initiated the first sunset reviews of the Orders pursuant to section 751(c) of the Tariff Act of 1930, as amended (the Act).² Commerce conducted these sunset reviews on an expedited basis, pursuant to section 751(c)(3)(B) of the Act and 19 CFR 351.218(e)(1)(ii)(C)(2) because it received timely and adequate notices of intent to participate in the sunset reviews and substantive responses from domestic interested parties,³ but no substantive responses from respondent interested parties. As a result of its reviews, Commerce determined, pursuant to sections 751(c)(1) and 752(b) and (c) of the Act, that revocation of the Orders would likely lead to continuation or recurrence of a countervailable subsidy and dumping, as applicable. Commerce also notified the ITC of the magnitude of the subsidy rates and dumping margins likely to prevail should the Orders be revoked.⁴ On September 4, the ITC published its determination, pursuant to sections 751(c) and 752(a) of the Act, that revocation of the Orders would be likely to lead to continuation or recurrence of material injury to an industry in the United States within a reasonably foreseeable time.⁵

¹ See Certain Crystalline Silicon Photovoltaic Products from the People's Republic of China: Antidumping Duty Order; and Amended Final Affirmative Countervailing Duty Determination and Countervailing Duty Order, 80 FR 8592 (February 18, 2015); and Certain Crystalline Silicon Photovoltaic Products from Taiwan: Antidumping Duty Order, 80 FR 8596 (February 18, 2015) (collectively, Orders).

² See Initiation of Five-Year (Sunset) Reviews, 85 FR 67 (January 2, 2020); see also Certain Crystalline Silicon Photovoltaic Products from China and Taiwan; Institution of Five-Year Reviews, 85 FR 120 (January 2, 2020).

³ See Domestic Interested Parties' Letters, “Crystalline Silicon Photovoltaic Products from China and Taiwan: Intent to Participate in Sunset Reviews,” dated January 13, 2020; “Crystalline Silicon Photovoltaic Products from People Republic of China and Taiwan: Hanwha Q CELLS USA, Inc.'s Notice of Intent to Participate in Sunset Reviews,” dated January 17, 2020; “Crystalline Silicon Photovoltaic Products from China and Taiwan Sunset Reviews: Substantive Response of SPMOR,” dated February 3, 2020; and “Certain Crystalline Silicon Photovoltaic Products from China and Taiwan, Inv. Nos. 701-TA-511 and 731-TA-1246 and 1247 (1st Sunset Review); Hanwha Q CELLS USA, Inc.'s Substantive Response,” dated February 3, 2020.

⁴ See Crystalline Silicon Photovoltaic Products from the People's Republic of China and Taiwan: Final Results of the Expedited First Sunset Reviews of the Antidumping Duty Orders, 85 FR 26938 (May 6, 2020); and Certain Crystalline Silicon Photovoltaic Products from the People's Republic of China: Final Results of the Expedited Sunset Review of the Countervailing Duty Order, 85 FR 26929 (May 6, 2020) (collectively, Final Results).

⁵ See Crystalline Silicon Photovoltaic Products from China and Taiwan: Sunset Review, Investigation Nos. 701-TA-511 and 731-TA-1246-1247, 85 FR 55319 (September 4, 2020).

Scope of the Orders

The merchandise covered by these Orders is crystalline silicon photovoltaic products from China and Taiwan. Merchandise covered by the Orders is currently classified in the Harmonized Tariff Schedule of the United States (HTSUS) under subheadings 8501.61.0000, 8507.20.8030, 8507.20.8040, 8507.20.8060, 8507.20.8090, 8541.40.60.15, 8541.40.6020, 8541.40.6030, 8541.40.60.35 and 8501.31.8000. These HTSUS subheadings are provided for convenience and customs purposes; the written description of the scope of the Orders is dispositive.⁶

⁶ For a complete description of the scope of the Orders, see Final Results.

Continuation of the Orders

As a result of the determinations by Commerce and the ITC that revocation of the Orders would likely lead to continuation or recurrence of a countervailable subsidy and dumping, as applicable, and material injury to an industry in the United States, pursuant to section 751(d)(2) of the Act and 19 CFR 351.218(a), Commerce hereby orders the continuation of the AD and CVD orders on crystalline silicon photovoltaic products from China and the AD order on crystalline silicon photovoltaic products from Taiwan. U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next sunset review of the Orders not later than 30 days prior to the fifth anniversary of the effective date of continuation.

Notification to Interested Parties

These five-year sunset reviews and this notice are in accordance with sections 751(c) and 751(d)(2) of the Act and this notice is published pursuant to section 777(i)(1) of the Act and 19 CFR 351.218(f)(4).

Dated: September 4, 2020.
Jeffrey I. Kessler,
Assistant Secretary for Enforcement and Compliance.

[FR Doc. 2020-20076 Filed 9-10-20; 8:45 am]

BILLING CODE 3510-DS-P